DEPARTMENT OF STATE

[Public Notice 9871]

30-Day Notice of Proposed Information Collection: Exchange Programs Alumni Web Site Registration

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to March 6, 2017.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Carlyn Messinger, Junior Program Officer in the Office of Alumni Affairs, who may be reached on 202-632-6186 or at MessingerCB@state.gov.

SUPPLEMENTARY INFORMATION:

• Title of Information Collection: Exchange Programs Alumni Web site Registration.

• OMB Control Number: 1405-0192.

• Type of Request: Revision of a Currently Approved Collection.

• Originating Office: Bureau of Educational and Cultural Affairs, ECA/P/A.

• Form Number: DS-7006.

• Respondents: Exchange program alumni and current participants of U.S. government-sponsored exchange programs.

• Estimated Number of Respondents: 5,000 for full form, and 41,000 for expedited form.

• Estimated Number of Responses: 46,000.

• Average Time per Response: 10 minutes for response to the full form or 2 minutes for response to the expedited form.

• Total Estimated Burden Time: 2,200 hours (reduction of approximately 30% since last approval).

• Frequency: One time per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The International Exchange Alumni Web site requires information to process users' voluntary request for participation in the International Exchange Alumni Web site. Other than contact and exchange program information, which is required for Web site registration, all other information is provided on a voluntary basis. Participants also have the option of restricting access to their information.

Respondents to this registration form are U.S. government-sponsored exchange program participants and alumni. Alumni Affairs collects data from users not only to verify their status or participation in a program, but to help alumni network with one another and aid Embassy staff in their alumni outreach. Once a user account is activated, the same information may be used for contests, competitions, and other public diplomacy initiatives in support of Embassy and foreign policy goals.

Methodology: Information provided for registration is collected electronically via the Alumni Web site, alumni.state.gov.

Additional Information: Since the previous approval, improvements made to the Web site have decreased the burden to respondents by 30%. International Exchange Alumni is a secure, encrypted Web site.

Alyson Grunder,
Deputy Assistant Secretary for Policy, Bureau of Educational and Cultural Affairs, Department of State.

[FR Doc. 2017-02243 Filed 2-1-17; 8:45 am]

BILLING CODE 4710-05-P